DEPARTMENT OF TRANSPORTATION

Federal Aviation Administration

Notice of Intent To Rule on Request To Release Airport Property at the South Texas Regional Airport at Hondo in Hondo, Texas

AGENCY: Federal Aviation Administration (FAA), DOT.

ACTION: Notice of request to release airport property.

SUMMARY: The FAA proposes to rule and invite public comment on the release of land at the Sweetwater Municipal Airport under the provisions of Section 125 of the Wendell H. Ford Aviation Investment Reform Act for the 21st Century (AIR 21).

DATES: Comments must be received on or before April 14, 2017.

ADDRESSES: Comments on this application may be mailed or delivered to the FAA at the following address: Mr. Ben Guttery, Manager, Federal Aviation Administration, Southwest Region, Airports Division, Texas Airports District Office, ASW-650, 10101 Hillwood Parkway, Fort Worth, Texas 76177.

In addition, one copy of any comments submitted to the FAA must be mailed or delivered to Mr. Kirk Harris, City Services Director, at the following address: 200 East 4th Street, P.O. Box 450, Sweetwater, Texas 79556.

FOR FURTHER INFORMATION CONTACT: Mr. Anthony Mekhail, Program Manager, Federal Aviation Administration, Texas Airports Development Office, ASW-650, 10101 Hillwood Parkway, Fort Worth, TX 76177, Telephone: (817) 222-5663, email: Anthony.Mekhail@faa.gov.

The request to release property may be reviewed in person at this same location.

SUPPLEMENTARY INFORMATION: The FAA invites public comment on the request to release property at the South Texas Regional Airport at Hondo under the provisions of the AIR 21.

The following is a brief overview of the request:

City of Sweetwater requests the release of 11.083 acres of non-aeronautical airport property. The property is located along the entrance/access road to the airport. This is a retroactive land release that occurred in 1999. The Texas State Technical College (TSTC) has provided over $140,000 of drainage improvements, widened and provided a new roadway surface, and added curb and gutter improvements along the roadway.

Any person may inspect the request in person at the FAA office listed above under FOR FURTHER INFORMATION CONTACT.

In addition, any person may, upon request, inspect the application, notice and other documents relevant to the application in person at the Sweetwater Municipal Airport, telephone number (325) 236-6313.

Issued in Fort Worth, Texas, on January 12, 2017.
Ignacio Flores
Director, Airports Division.

[FR Doc. 2017-05018 Filed 3-14-17; 8:45 am]

BILLING CODE 4910-13-P